DEPARTMENT OF TRANSPORTATION

Federal Aviation Administration

14 CFR Part 71

[Docket No. FAA-2022-0827; Airspace Docket No. 21-AEA-12]

RIN 2120-AA66

Amendment and Revocation of Air Traffic Service (ATS) Routes; Eastern United States

AGENCY: Federal Aviation Administration (FAA), DOT.

ACTION: Final rule.

SUMMARY: This action amends four jet routes and removes eight jet routes in the eastern United States. This action is associated with the Northeast Corridor Atlantic Coast Route Project and supports the VHF Omnidirectional Range (VOR) Minimum Operational Network (MON) to improve the efficiency of the National Airspace System (NAS) and reduce dependency on ground-based navigational systems.

DATES: Effective date 0901 UTC, November 3, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2022-0827 in the Federal Register (87 FR 41633; July 13, 2022), amending 4 jet routes and removing 8 jet routes in the eastern United States. Interested parties were invited to participate in this rulemaking effort by submitting written comments on the proposal. No comments were received.

Jet routes are published in paragraph 2004 of FAA Order JO 7400.11F dated August 10, 2021, and effective September 15, 2021, which is incorporated by reference in 14 CFR 71.1. The jet routes listed in this document will be subsequently published in and removed from FAA Order JO 7400.11.

Difference From the NPRM

The NPRM did not address an error in the description of jet route J-68 as published in FAA Order JO 7400.11F that misidentified the state for the Gopher VORTAC as MI instead of MN. The description of J-68 in the NPRM and this rule is correct.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by amending 4 jet routes and removing 8 jet routes in the eastern United States. This action is associated with the Northeast Corridor Atlantic Coast Route Project, and supports the VOR MON Program. Additionally, the jet route changes reduce aeronautical chart clutter by removing unneeded route segments.

The route changes are as follows:

J-14: J-14 extends from Panhandle, TX to Vulcan, AL; and From Greensboro, NC to Patuxent, MD. This action removes the segments from Greensboro, NC, to Patuxent, MD. This supports the decommissioning of the Patuxent VHF Omnidirectional Range and Tactical Air Navigational System (VORTAC). Existing Area Navigation (RNAV) Q routes, Q-22 and Q-60, partially overlay this segment.

J-24: J-24 extends from Myton, UT, to Hayden, CO; and From Hugo, CO, to Harcum, VA. This removes the segment from Flat Rock, VA, to Harcum, VA. This segment of the route is no longer used by air traffic control (ATC). Other Performance Based Navigation (PBN) route structure is being implemented to reflect current traffic flows in the area. As amended, J-24 extends from Myton, UT, to Hayden, CO; and From Hugo, CO, to Montebello, VA.

J-52: J-52 extends from Vancouver, BC, Canada, to Vulcan, AL; and From the intersection of the Columbia, SC, 042°, and the Flat Rock, VA, 212° radials to Richmond, VA. The FAA is removing the segments between Bigbee, MS, and Vulcan, AL; and the segments between the intersection of Columbia, SC, and Flat Rock, VA, radials and Richmond, VA. RNAV routes Q-87, Q-99, and Q-122 will be extended to replace the segments of J-52. As amended, J-52 extends from Vancouver, BC, Canada, to Sidon, MS.

J-68: J-68 extends from Gopher, MN, to Flint, MI; and From Hancock, NY, to Nantucket, MA. This action removes the segments from Hancock, NY to Nantucket, MA. These segments are no longer used by ATC. Other PBN route structure will be implemented to reflect current air traffic flows in the area. As amended, J-68 extends from Gopher, MN, to Flint, MI.

J-165: J-165 extends from the intersection of the Charleston, SC 025° and the Florence, SC 085° radials to Richmond, VA. The route is cancelled in its entirety. RNAV route Q-99 will be extended as a partial overlay and replacement of J-165.

J-207: J-207 extends from Florence, SC, to Franklin, VA. This action removes J-207 in its entirety. RNAV route Q-87 will be extended as a substitute for J-207.

J-506: J-506 extends from Millinocket, ME to the intersection of the St John, NB, 267° radial and the United States/Canadian border. The FAA is removing J-506 in its entirety. This route is no longer used by ATC. Currently, RNAV routes Q-947 and Q-806 exist in this area.

J-561: J-561 extends from Presque Isle, ME, to Mont Joli, PQ, Canada. This route is no longer used by ATC. The FAA is removing the route in its entirety.

J-563: J-563 extends from Albany, NY, to Sherbrooke, PQ, Canada. This route is no longer used by ATC. The Sherbrooke VHF Omnidirectional Range (VOR) has been decommissioned by NavCanada. This action removes the route in its entirety.

J-573: J-573 extends from Kennebunk, ME, to St John, NB, Canada. The route is no longer used by ATC. The FAA is removing J-573 in its entirety.

J-582: J-582 extends from Presque Isle, ME to Sept Isle, PQ, Canada. The route is no longer used by ATC. This action removes the route in its entirety.

J-585: J-585 extends from Nantucket, MA, to Yarmouth, NS, Canada. This route is no longer used by ATC. This action removes the route in its entirety.

FAA Order 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending four jet routes, and removing eight jet routes, in the eastern United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F Airspace Designations and Reporting Points, dated August 10, 2021, and effective September 15, 2021, is amended as follows:

Paragraph 2004 Jet Routes.

* * * * *

J-14 [Amended]

From: Panhandle, TX via Will Rogers, OK; Little Rock, AR; to Vulcan, AL.

* * * * *

J-24 [Amended]

From Myton, UT, to Hayden, CO. From Hugo, CO, Hays, KS; via Salina, KS; Kansas City, MO; St. Louis, MO; Brickyard, IN; Falmouth, KY; Charleston, WV; to Montebello, VA.

* * * * *

J-52 [Amended]

From Vancouver, BC, Canada; via Spokane, WA; Salmon, ID; Dubois, ID; Rock Springs, WY; Falcon, CO; Hugo, CO; Lamar, CO; Liberal, KS; INT Liberal 137° and Ardmore, OK, 309° radials; Ardmore; Texarkana, AR; to Sidon, MS.

* * * * *

J-68 [Amended]

From Gopher, MN, INT Gopher 109° and Dells, WI, 310° radials; Dells; Badger, WI; INT Badger 086° and Flint, MI, 278° radials; to Flint.

* * * * *

J-165 [Removed]

* * * * *

J-207 [Removed]

* * * * *

J-506 [Removed]

* * * * *

J-561 [Removed]

* * * * *

J-563 [Removed]

* * * * *

J-573 [Removed]

* * * * *

J-582 [Removed]

* * * * *

J-585 [Removed]

* * * * *

Issued in Washington, DC, on September 1, 2022.
Scott M. Rosenbloom,
Manager, Airspace Rules and Regulations.

[FR Doc. 2022-19287 Filed 9-7-22; 8:45 am]

BILLING CODE 4910-13-P